CHEMICAL SAFETY AND HAZARD INVESTIGATION BOARD

Agency Information Collection Activities; Proposals, Submissions, and Approvals: Reactive Hazard Study Survey of Industry Practices

AGENCY: United States Chemical Safety and Hazard Investigation Board (CSB).

ACTION: 30-Day notice of submission of information collection request (ICR) approval and request for comments.

SUMMARY: The proposed information collection request (ICR) renewal described below will be submitted to the Office of Management and Budget (OMB) for review and approval, as required by the Paperwork Reduction Act of 1995. The Chemical Safety Board (CSB) is soliciting public comments on this proposed collection renewal. The purpose of this notice is to allow for an additional 30 days of public comment.

DATES: Comments should be sent no later than 5 p.m. EDT on Friday, October 13, 2023.

ADDRESSES: Interested persons are invited to submit comments regarding this proposal. When commenting on the proposed information collections, please reference the document identifier or OMB control number. To be assured consideration, comments and recommendations must be received by the OMB desk officer via one of the following transmissions within 30 days of publication of this notice: OMB, Office of Information and Regulatory Affairs, Attention: Chemical Safety Board Desk Officer, Fax Number: (202) 395-5806 OR, Email: OIRA_submission@omb.eop.gov.

Additionally, written comments and recommendations for the proposed information collection can be sent within 30 days of publication of this notice to www.reginfo.gov/public/do/PRAMain. To find this particular information collection request, select “Currently under 30-day Review—Open for Public Comments” or use the search function.

Requests for information, including copies of the information collection proposed and supporting documentation should be directed to: Tamara Qureshi, Assistant General Counsel, U.S. Chemical Safety and Hazard Investigation Board, at reactives@csb.gov.

FOR FURTHER INFORMATION CONTACT: Tamara Qureshi, Assistant General Counsel, U.S. Chemical Safety and Hazard Investigation Board, 1750 Pennsylvania Ave. NW, Suite 910, Washington, DC 20006, report@csb.gov, or 202-261-7600.

SUPPLEMENTARY INFORMATION:

Title: CSB Reactive Hazard Study Survey of Industry Practices.

Type of Request: Approval.

Abstract: The enabling statute of the Chemical Safety and Hazard Investigation Board (CSB) provides that the CSB is “authorized to conduct research and studies with respect to the potential for accidental releases, whether or not an accidental release has occurred, where there is evidence which indicates the presence of a potential hazard or hazards.” 42 U.S.C. 7412(r)(6)(F).

In August 2000, the CSB initiated a review of reactive hazards nationwide. The purpose of the investigation was to develop recommendations to reduce the number and severity of such incidents. The CSB published Hazard Investigation: Improving Reactive Hazard Management on September 17, 2002. The CSB issued a total of 24 recommendations to 15 organizations. Only two recommendations remain.

This information collection request will assist the CSB in updating its 2002 study, “Hazard Investigation: Improving Reactive Hazard Management.” On behalf of the CSB, the Federal Research Division (FRD) within the Library of Congress is conducting the study to reflect the current research, data, and company safety policies concerning reactive chemical incidents.

For this study, FRD on behalf of CSB will collect survey data from 15 randomly selected small, medium, and large companies that use reactive chemicals. FRD will also conduct interviews with nine stakeholders, who may include industry representatives, regulatory agencies, professional safety organizations, trade associations, trade unions, and/or public advocacy groups.

Type of Respondents: All the respondents will be private sector businesses that use reactive chemicals that voluntarily submit to interviews or the survey.

Estimate Annual Number of Respondents: 24.

Frequency of Use: Once. This survey is part of a study.

Small Businesses or Organizations Affected: No. Although the CSB is contacting small businesses, this survey is voluntary. Additionally, the CSB anticipates a total of 15 companies will respond.

Estimated Number of Annual Responses: 24.

Estimated Average Burden Hours per Response: 3 hours. The survey should take a representative from each of the companies randomly selected two to four hours to complete. The estimated financial burden for one process safety manager to take this survey is $144.45. For 15 surveys, the total cost of process safety managers' time is estimated to be $2,166.75.¹ The interviews will take no longer than 90 minutes each. The estimated financial burden for one chemist to engage in an interview is $64.28. For nine interviews, the total cost of chemists' time is estimated to be $578.48.² The combined total cost of this data collection on the American public is estimated to be $2,745.23.

¹ A 3-hour time burden for a process safety manager (which is a reasonable if not expected interviewee for a surveyed company) multiplied by the number of surveys; an average Process Safety Manager makes $100,154 as of September 15, 2022, which in terms of hourly compensation is $48.15. $48.15 hourly pay * 3 hours to complete * 15 surveys = $2,166.75. See “Process Safety Manager Salaries,” Glassdoor, Updated September 15, 2022, https://www.glassdoor.com/Salaries/process-safety-manager-salary-SRCH_KO0,22.htm.

² A 90-minute time burden for a chemist (which is a reasonable representative for these stakeholders) multiplied by the number of planned interviews; a chemist's average salary is $89,130 as of May 2021, which is $42.85 per hour. $42.85 hourly pay * 1.5 hours to complete * 9 interviews = $578.48. See “Occupational Employment and Wage Statistics, May 2021, 19-2031 Chemists,” Bureau of Labor Statistics, March 31, 2022, https://www.bls.gov/oes/current/oes192031.htm.

Estimated Total Annual Burden Hours: 45 hours.

Need for and Use of Information: This research is vital because safely conducting chemical reactions is essential for the chemical manufacturing industry. Chemical reactive hazards can rapidly release large quantities of heat, energy, and gaseous byproducts. Uncontrolled reactions have led to serious explosions, fires, and toxic emissions. The impacts may be severe in terms of death and injury to people, damage to physical property, and effects on the environment and surrounding communities. Since the publication of the 2002 report, incidents caused by uncontrolled chemical reactions have persisted. This fact suggests the need to continue to evaluate existing standards and improve the management of reactive hazards in response to changes within the chemical manufacturing industry over the past two decades.

Researchers will use quantitative and qualitative mixed methods to analyze the collected industry information. The analysis will identify trends and present insights which will enhance the CSB's capacity to respond to future reactive chemical incidents and to inform industry stakeholders of the best practices in process safety protocols.

Comment is Invited: Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology. To view the draft protocol, please see: https://www.csb.gov/assets/1/6/csb_frd_reactivessurvey_draft_(002).pdf.

All comments received in response to this notice, including names and addresses when provided, will be a matter of public record. As of the time of this notice, the CSB has not received any comments. Comments will be summarized and included in the submission request toward Office of Management and Budget approval.

Dated: September 7, 2023.
Tamara Qureshi,
Assistant General Counsel, Chemical Safety and Hazard Investigation Board.

[FR Doc. 2023-19659 Filed 9-11-23; 8:45 am]

BILLING CODE 6350-01-P